DEPARTMENT OF COMMERCE

Foreign-Trade Zones Board

[B-77-2018]

Foreign-Trade Zone (FTZ) 168—Dallas/Fort Worth, Texas; Notification of Proposed Production Activity; Gulfstream Aerospace Corporation (Disassembly of Aircraft); Dallas, Texas

The Metroplex International Trade Development Corporation, grantee of FTZ 168, submitted a notification of proposed production activity to the FTZ Board on behalf of Gulfstream Aerospace Corporation (Gulfstream), located in Dallas, Texas. The notification conforming to the requirements of the regulations of the FTZ Board (15 CFR 400.22) was received on December 7, 2018.

Gulfstream already has authority to produce passenger jet aircraft within Subzone 168E. The current request involves the removal of items from finished aircraft and would add finished products and a foreign status material/component to the scope of authority. Pursuant to 15 CFR 400.14(b), additional FTZ authority would be limited to the specific foreign-status material/component and specific finished products described in the submitted notification (as described below) and subsequently authorized by the FTZ Board.

Production under FTZ procedures could exempt Gulfstream from customs duty payments on the foreign-status materials/components used in export production. On its domestic sales, for the foreign-status materials/components noted below and in the existing scope of authority, Gulfstream would be able to choose the duty rates during customs entry procedures that apply to: Accumulators; actuators; adapters; amplifiers; arm assemblies; armrests; attenuators; auxiliary power units; avionics media; crash axes; baffles; ballast; lithium, lead-acid and nickel-metal hydride batteries; bearings; bell assemblies; bellcranks; bellows; transmission belts; fan blades; thermal insulation blankets; bolts; technical- flight manual books; boost pump cartridges; turbine boots; bootstrap reservoirs; brackets; brake assemblies; bushings; cabin air distribution kits; cables; engine cams; interlock cams; cameras; caps; capacitors; cargo straps; cockpit carpet; turbine chambers; circlips; circuit breakers; integrated circuits; clamps; clevis; clutches; coils; collars; combustors; commutators; compensators; compressors; computers; oil level conditioners; conduits; wheel cones; connectors; electrical contacts; ferry containers; grip controls; control panels; control units; static converters; oil coolers; ferrite cores; couplings; covers; partition curtains; pneumatic cylinders; cowl dampers; deflectors; turbine engine valve diaphragms; diodes; satcom diplexers; LED, LCD and analog displays; LED, LCD and analog display components; hot air distributors; ditching lifelines and pouches; doors; drains; ducts; elbows; elevator assemblies; gas turbine engines; equipment stands; heat exchangers; ignition exciters; external compensation units; faceplates; fairings; engine and avionics fans; filters; engine fire bottles; fire extinguishers; first-aid kits; fittings; flanges; flaps; flashlights; flight data recorders; floor boards; fuses; gaskets; gears; gear motors; gear shafts; generators; handles; handrail assemblies; wire and cable harnesses; headsets; heat shields; heat sinks; heating elements; hoses; housings; impellers; indicators; inductors; fuel injectors; inlet assemblies; rubber inner tubes; nickel inserts; insulators; interface units; interlock rollers; inverters; knobs; landing gear assemblies; latches; lavatories; ignitor leads; leading edges; lens assemblies; life jackets; life rafts; light assemblies; hydraulic lines; magnetometers; bleed air manifolds; microphones; control modules; waste tank modules; AC motors; mounts; nipples; switching nodes; nuts; rubber O-rings; structural overhead strips; instrument panel overlays; oxygen cylinders and full face masks; panels; rudder pedal assemblies; piccolo tubes; pins; pipes; nameplates and placards; plates; plugs; port kits; potentiometers; static pressure ports; printed circuits; oil probes; pumps; radar; radio racks; radio receiver and transmitter; radomes; spring reels; voltage regulators; relays; resistors; restraint systems; rig pin assemblies; rollers; rotors; screws; seals; seats; security wedges; sensors; servos; shafts; aluminum sheets; shock absorbers; slider assemblies; spacers; springs; stators; strut assemblies; studs; sun visors; support assemblies; switches; tail cones; T-fittings; thermocouples; thermostats; throttle quadrants; tie rod assemblies; rubber tires; traffic surveillance systems; transceivers; transducers; transformers; transistors; transponders; trim assemblies; tubes; valves; vibration isolators; washers; wheel assemblies; window assemblies; and, winglets (duty rate ranges from duty-free to 12.5%). Gulfstream would be able to avoid duty on foreign-status components which become scrap/waste. Customs duties also could possibly be deferred or reduced on foreign-status production equipment.

The material/component sourced from abroad is: Aircraft (duty-free).

Public comment is invited from interested parties. Submissions shall be addressed to the Board's Executive Secretary at the address below. The closing period for their receipt is January 28, 2019.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Elizabeth Whiteman at Elizabeth.Whiteman@trade.gov or (202) 482-0473.

Dated: December 11, 2018.
Andrew McGilvray,
Executive Secretary.

[FR Doc. 2018-27245 Filed 12-14-18; 8:45 am]

BILLING CODE 3510-DS-P